DEPARTMENT OF AGRICULTURE

Forest Service

Viveash Fire Timber Salvage EIS—Santa Fe National Forest

AGENCY: Forest Service, USDA.

ACTION: Notice of intent to prepare an environmental impact statement.

SUMMARY: The Santa Fe National Forest will prepare an environmental impact statement (EIS) on a proposal to harvest trees killed by the Viveash Fire. The Viveash Fire burned approximately 29,000 acres on the Pecos Ranger District in late May through early June of 2000. The purpose of the proposal is to harvest some of the fire killed timber and provide a variety of wood products through both commercial timber sales and non-commercial personal use permits. The EIS will be designed to satisfy the requirements of the National Environmental Policy Act (NEPA), 42 U.S.C. 4321-4370a, and the National Forest Management Act, 16 U.S.C. 1600-1614, and their respective implementing regulations.

DATES: Comments concerning the scope of the analysis should be received on or before April 14, 2001. The draft EIS is expected to be available for public review in June 2001. The final EIS is expected to be published in September 2001.

ADDRESSES: Submit written comments and suggestions on the proposal, or requests to be placed on the project mailing list, to Daniel A. Crittenden, District Ranger, Pecos-Las Vegas Ranger District, Santa Fe National Forest, P.O. Drawer 429, Pecos, NM, 87552.

FOR FURTHER INFORMATION CONTACT: Chris Napp, Viveash Project Coordinator (505) 757-6121; or cnapp@fs.fed.us.

SUPPLEMENTARY INFORMATION: The proposed action is to recover forest products—sawtimber, firewood, specialty products (vigas and latillas)—from trees killed by the Viveash Fire. Specifically this includes removing up to 25 million board feet over 5,000 acres of the 29,000 acre fire, concentrating in areas with high volume per acre; removing trees in areas with high and moderate intensity burns only (trees 100% scorched or totally devoid of any green needles) except incidental removal of green trees where necessary; no new road construction (specified or temporary); concentrating harvest from areas with low susceptibility to soil erosion, compaction and water runoff. Resource protection measures will be included to protect resources such as snags, soils, heritage resources, water quality and wildlife.

Public scoping packages are expected to be sent out to those on the Viveash project mailing list in February or early March, 2001. A public scoping meeting will be held in the town of Pecos soon thereafter. A second public meeting in Pecos is planned shortly after issuance of the draft EIS.

Decision To Be Made

The Forest Service will prepare an EIS. The District Ranger of the Pecos/Las Vegas Ranger District, Santa Fe National Forest will decide whether or not to implement this project, and if so, in what manner.

Responsible Official

Daniel A. Crittenden, District Ranger Pecos/Las Vegas Ranger District, Santa Fe National Forest, P.O. Drawer 429, Pecos, New Mexico 87552, is the Responsible Official for this decision. He will document his decision in a Record of Decision.

Estimated Dates for Filing

The draft EIS is expected to be filed with the Environmental Protection Agency (EPA) and to be available for public review by July 15, 2001. At that time, EPA will publish a Notice of Availability of the draft EIS in the Federal Register. The comment period on the draft EIS will be 45 days from the date the EPA publishes the Notice of Availability in the Federal Register. It is very important that those interested in the management of this area participate at that time.

The final EIS is scheduled to be completed by October 2001. In the final EIS, the Forest Service is required to respond to comments and responses received during the comment period that pertain to the environmental consequences discussed in the draft EIS and applicable laws, regulations and policies considered in making a decision regarding the proposal.

The Reviewers Obligation To Comment

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: March 7, 2001.
Leonard Atencio,
Forest Supervisor, Santa Fe National Forest.

[FR Doc. 01-6511 Filed 3-15-01; 8:45 am]

BILLING CODE 3410-11-M